DEPARTMENT OF COMMERCE

Patent and Trademark Office

37 CFR Part 1

[Docket No. PTO-P-2019-0009]

RIN 0651-AD33

Small Entity Government Use License Exception

Correction

In rule document 2020-27049 appearing on pages 82917-82923 in the issue of Monday, December 21, 2020, make the following correction:

On page 82917, in the third column, in the DATES section, change “January 20, 2021” to read “January 21, 2021.”

[FR Doc. C1-2020-27049 Filed 1-12-21; 8:45 am]

BILLING CODE 1301-00-D